DEPARTMENT OF TRANSPORTATION

Maritime Administration

Notice of United States Shipwreck Custody and Control; Protecting Sunken Vessels and Cargo

AGENCY: Maritime Administration (MARAD), Department of Transportation (DOT).

ACTION: Notice.

SUMMARY: This notice serves to inform the public that United States custody and control extends to any shipwreck of a vessel that at the time of its sinking was owned or under charter of MARAD or one of its predecessor agencies. United States custody and control also extends by right of subrogation to shipwreck cargoes, as the loss of which was covered and paid for by insurance programs administered by MARAD or by one of its predecessor agencies. MARAD's predecessor agencies include the United States Shipping Board, the Emergency Fleet Corporation, the Merchant Fleet Corporation, the Shipping Board of the U.S. Department of Commerce, the War Shipping Administration, and the United States Maritime Commission. MARAD is authorized to protect the property interests of the United States government and to protect the war graves associated with all such shipwrecks. Pursuant to its authority, on behalf of the United States, MARAD does not consent to the salvage of such shipwrecks and or their cargoes.

Those engaging in unauthorized activities involving shipwrecks and cargoes in MARAD's custody or control whether located in the waters of the United States, a foreign nation, or in international waters are advised that no disturbance or recovery from these shipwrecks or their cargoes may legally take place without the express permission of MARAD.

FOR FURTHER INFORMATION CONTACT: Wendy Coble, MARAD History Program, 202-366-8988, or via email at marad.history@dot.gov. Office hours are from 9:00 a.m. to 5:00 p.m., E.T., Monday through Friday, except Federal holidays.

SUPPLEMENTARY INFORMATION:

Background

Shipwrecks in the custody and or control of MARAD are highly threatened by illegal salvage. MARAD custody and control extends to any shipwreck of a vessel at the time of its sinking that was owned by or under charter of MARAD or one of its predecessor agencies. MARAD custody and control also extends by right of subrogation to shipwreck cargoes, as the loss of which was covered and paid for by insurance programs administered by MARAD or by one of its predecessor agencies. MARAD's predecessor agencies are the United States Shipping Board, the Emergency Fleet Corporation, the Merchant Fleet Corporation, the Shipping Board of the U.S. Department of Commerce, the War Shipping Administration, and the United States Maritime Commission.

Pursuant to the property clause of Article IV of the Constitution, the United States' title is indefinite in its property, including shipwrecks and government-owned cargoes, unless title has been abandoned or transferred in a manner authorized or directed by Congress. Title to property of the United States, even when sunk, is not extinguished by passage of time or location, regardless of when and where such vessel was lost.

MARAD is authorized to protect the property interests of the United States government subject to its custody and or control including all appropriate means of historic and environmental preservation. MARAD is also authorized to protect the war graves associated with shipwrecks. Those engaging in unauthorized activities involving shipwrecks and cargoes belonging to MARAD or those vessels of MARAD's predecessor agencies are advised that no disturbance or recovery from said shipwrecks or cargoes can legally take place without the express permission of MARAD. The United States will use its authority to protect and preserve its shipwrecks and their cargoes whether located in the waters of the United States, a foreign nation, or in international waters.

MARAD's written consent must be given before any activity can commence at a MARAD shipwreck site. Please note that while MARAD prefers non-intrusive, in situ research, it recognizes that in certain situations disturbance or artifact recovery may be justified or become necessary. To obtain MARAD's consent for any activity, you must send a written request to the address provided in the FOR FURTHER INFORMATION CONTACT section above. Your request must provide your contact information and details regarding the goals of the activities proposed to be permitted, the dates and locations the activities are proposed to be performed, and a description of the activities to be performed with the methodologies being considered for such activities. Any permission from MARAD will be issued in writing.

(Authority: 46 U.S.C. 57111; 49 CFR 1.93(a))

By order of the Maritime Administrator.
T. Mitchell Hudson, Jr.,
Secretary, Maritime Administration.

[FR Doc. 2023-15032 Filed 7-14-23; 8:45 am]

BILLING CODE 4910-81-P